DEPARTMENT OF THE INTERIOR

Bureau of Reclamation

Information Collection Activities; Proposed Collection; Comment Request; Renewal

AGENCY: Bureau of Reclamation, Interior.

ACTION: Notice and request for comments.

SUMMARY: In accordance with the Paperwork Reduction Act of 1995, this notice announces that the Bureau of Reclamation (Reclamation) is seeking a renewal of the following information collection:

Diversions, Return Flow, and Consumptive Use of Colorado River Water in the Lower Colorado River Basin, OMB No. 1006-0015.

Before submitting the information collection request to the Office of Management and Budget for approval, Reclamation is soliciting comments on specific aspects of the information collection.

DATES: Comments on this notice must be received by May 19, 2003.

ADDRESSES: Address all comments concerning this notice to Nancy DiDonato, BCOO-4445, Bureau of Reclamation, P.O. Box 61470, Boulder City, Nevada 89006-1470. A copy of the information collection form can be obtained by writing to the above address or calling Nancy DiDonato at (702) 293-8532.

FOR FURTHER INFORMATION CONTACT: Nancy DiDonato, Contracts and Repayment Specialist, (702) 293-8532.

SUPPLEMENTARY INFORMATION: Comments are invited on: (a) Whether the proposed collection of information is necessary for the proper performance of Reclamation's functions, including whether the information will have practical use; (b) the accuracy of Reclamation's estimated time and cost burdens of the proposed collection of information, including the validity of the methodology and assumptions used; (c) ways to enhance the quality, use, and clarity of the information to be collected; and (d) ways to minimize the burden of the collection of information on respondents, including the use of automated collection techniques or other forms of information technology.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Information on water diversions is reported on four different types of forms. The base form (Form LC-72) was developed for use by respondents in the State of Nevada and variations of the form have been used by other respondents. Some respondents choose to use their own format to report diversions and return flows. Water delivery contracts regulation some respondents to supply both monthly and annual reports on the same form.

Title: Diversions, Return Flow, and Consumptive Use of Colorado River Water in the Lower Colorado River Basin.

OMB No.: 1006-0015.

Abstract: Reclamation delivers Colorado River water to water users for diversion and beneficial consumptive use in the States of Arizona, California, and Nevada. Under Supreme Court order, the United States is required, at least annually, to prepare and maintain complete, detailed, and accurate records of diversions of water, return flow, and consumptive use. This information is needed to ensure that a State or a water user within a State does not exceed its authorized use of Colorado River water. Water users are obligated to provide information on diversions and return flows to Reclamation by provisions in their water delivery contracts. Reclamation determines the consumptive use by subtracting return flow from diversions or by other engineering means. Without the information collected, Reclamation could not comply with the order of the United States Supreme Court to prepare and maintain detailed and accurate records of diversions, return flow, and consumptive use.

Description of respondents: The Lower Basin States (Arizona, California, and Nevada), local and tribal entities, water districts, and individuals that use Colorado River water.

Frequency: Annually, or otherwise as determined by the Secretary of the Interior.

Estimated total number of respondents: 54.

Estimated hours per form:

LC-72: 54 hours.

LC72A: 30 hours.

LC72B: 78 hours.

Custom forms: 128 hours.

Estimated total burden hours: 290.

Dated: February 25, 2003.
Jayne Harkins,
Area Manager, Boulder Canyon Operations Office, Lower Colorado Region.

[FR Doc. 03-6457 Filed 3-17-03; 8:45 am]

BILLING CODE 4310-MN-M